DEPARTMENT OF TRANSPORTATION

Federal Aviation Administration

14 CFR Part 97

[Docket No. 31166; Amdt. No. 3775]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective December 4, 2017. The compliance date for each SIAP, associated Takeoff Minimums, and ODP is specified in the amendatory provisions.

The incorporation by reference of certain publications listed in the regulations is approved by the Director of the Federal Register as of December 4, 2017.

ADDRESSES: Availability of matters incorporated by reference in the amendment is as follows:

For Examination

1. U.S. Department of Transportation, Docket Ops-M30, 1200 New Jersey Avenue SE., West Bldg., Ground Floor, Washington, DC 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C. 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (air).

Issued in Washington, DC, on November 17, 2017.
John S. Duncan,
Director, Flight Standards Service.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 4 January 2018

Tucson, AZ, Tucson Intl, ILS OR LOC RWY 11L, Amdt 14A

Tucson, AZ, Tucson Intl, LOC BC RWY 29R, Amdt 8A

Tucson, AZ, Tucson Intl, VOR OR TACAN RWY 11L, Amdt 1B

New Orleans, LA, Louis Armstrong New Orleans Intl, ILS OR LOC RWY 11, ILS RWY 11 (SA CAT I), ILS RWY 11 (CAT II), ILS RWY 11 (CAT III), Amdt 4

Greenville, SC, Greenville Downtown, RADAR-1, Amdt 13B, CANCELED

Greer, SC, Greenville Spartanburg Intl, RADAR-1, Amdt 7, CANCELED

Effective 1 February 2018

Huntsville, AL, Huntsville Intl-Carl T Jones Field, ILS OR LOC RWY 18L, Amdt 4D

Huntsville, AL, Huntsville Intl-Carl T Jones Field, ILS OR LOC RWY 18R, ILS RWY 18R (CAT II), Amdt 24E

Huntsville, AL, Huntsville Intl-Carl T Jones Field, ILS OR LOC RWY 36L, Amdt 10C

Huntsville, AL, Huntsville Intl-Carl T Jones Field, ILS OR LOC RWY 36R, Amdt 2C

Huntsville, AL, Huntsville Intl-Carl T Jones Field, RADAR-1, Amdt 10A

Huntsville, AL, Huntsville Intl-Carl T Jones Field, RNAV (GPS) RWY 18L, Amdt 1B

Huntsville, AL, Huntsville Intl-Carl T Jones Field, RNAV (GPS) RWY 18R, Amdt 1B

Huntsville, AL, Huntsville Intl-Carl T Jones Field, RNAV (GPS) RWY 36L, Amdt 1B

Huntsville, AL, Huntsville Intl-Carl T Jones Field, RNAV (GPS) RWY 36R, Amdt 1B

Huntsville, AL, Huntsville Intl-Carl T Jones Field, Takeoff Minimums and Obstacle DP, Amdt 4A

Talladega, AL, Talladega Muni, ILS Y OR LOC Y RWY 4, Orig

Talladega, AL, Talladega Muni, ILS Z OR LOC Z RWY 4, Amdt 1

Talladega, AL, Talladega Muni, RNAV (GPS) RWY 4, Amdt 2

Talladega, AL, Talladega Muni, RNAV (GPS) RWY 22, Amdt 2

Talladega, AL, Talladega Muni, VOR-A, Amdt 7, CANCELED

El Dorado, AR, South Arkansas Rgnl at Goodwin Field, Takeoff Minimums and Obstacle DP, Amdt 2A

Alturas, CA, Alturas Muni, RNAV (GPS) RWY 31, Amdt 2

Bishop, CA, Bishop, RNAV (GPS) Y RWY 12, Orig-D

Bishop, CA, Bishop, RNAV (GPS) Z RWY 12, Orig-E

Byron, CA, Byron, RNAV (GPS) RWY 30, Amdt 1A

Chico, CA, Chico Muni, RNAV (GPS) RWY 31R, Orig-C

Half Moon Bay, CA, Half Moon Bay, RNAV (GPS) Z RWY 30, Orig-C

Lakeport, CA, Lampson Field, RNAV (GPS)-A, Orig-C

Los Banos, CA, Los Banos Muni, RNAV (GPS) RWY 14, Orig-B

Paso Robles, CA, Paso Robles Muni, RNAV (GPS) RWY 31, Orig-B

Santa Barbara, CA, Santa Barbara Muni, ILS OR LOC RWY 7, Amdt 5B

Tracy, CA, Tracy Muni, RNAV (GPS) RWY 26, Amdt 1A

Denver, CO, Centennial, ILS OR LOC RWY 35R, Amdt 10A

Oxford, CT, Waterbury-Oxford, ILS OR LOC RWY 36, Amdt 14B

Orlando, FL, Executive, ILS OR LOC RWY 25, Amdt 1A

Orlando, FL, Executive, RNAV (GPS) RWY 25, Amdt 3A

West Palm Beach, FL, Palm Beach County Park, RNAV (GPS) RWY 34, Amdt 1

West Palm Beach, FL, Palm Beach County Park, RNAV (GPS)-A, Amdt 1

West Palm Beach, FL, Palm Beach County Park, RNAV (GPS)-B, Amdt 1

West Palm Beach, FL, Palm Beach County Park, Takeoff Minimums and Obstacle DP, Amdt 3

Iowa Falls, IA, Iowa Falls Muni, RNAV (GPS) RWY 13, Amdt 1

Iowa Falls, IA, Iowa Falls Muni, RNAV (GPS) RWY 31, Amdt 2

Driggs, ID, Driggs-Reed Memorial, RNAV (GPS)-A, Amdt 1A

Twin Falls, ID, Joslin Field—Magic Valley Rgnl, RNAV (GPS) RWY 26, Amdt 1B

Chicago/Prospect Heights/Wheeling, IL, Chicago Executive, Takeoff Minimums and Obstacle DP, Amdt 3A

Indianapolis, IN, Indy South Greenwood, Takeoff Minimums and Obstacle DP, Amdt 5

Olathe, KS, New Century Aircenter, ILS OR LOC RWY 36, Amdt 7A

Topeka, KS, Philip Billard Muni, RNAV (GPS) RWY 4, Orig-A, CANCELED

Topeka, KS, Philip Billard Muni, RNAV (GPS) RWY 22, Amdt 1, CANCELED

Topeka, KS, Philip Billard Muni, VOR RWY 22, Amdt 21, CANCELED

Deblois, ME, Deblois Flight Strip, DEBLOIS ONE Graphic DP

Deblois, ME, Deblois Flight Strip, RNAV (GPS)-A, Orig

Deblois, ME, Deblois Flight Strip, Takeoff Minimums and Obstacle DP, Orig

Fremont, MI, Fremont Muni, VOR RWY 18, Orig-A, CANCELED

Fremont, MI, Fremont Muni, VOR RWY 36, Amdt 7A, CANCELED

Lansing, MI, Capital Region Intl, ILS OR LOC RWY 10R, Amdt 11B

Lansing, MI, Capital Region Intl, ILS OR LOC RWY 28L, Amdt 27C

Owosso, MI, Owosso Community, RNAV (GPS) RWY 11, Amdt 1D

Owosso, MI, Owosso Community, RNAV (GPS) RWY 29, Amdt 1D

Ray, MI, Ray Community, RNAV (GPS)-A, Orig-A

Hutchinson, MN, Hutchinson Muni-Butler Field, RNAV (GPS) RWY 33, Orig-B

Hutchinson, MN, Hutchinson Muni-Butler Field, VOR RWY 33, Amdt 3B

Aurora, MO, Jerry Sumners SR Aurora Muni, Takeoff Minimums and Obstacle DP, Amdt 2

Columbia, MO, Columbia Rgnl, ILS OR LOC RWY 2, Amdt 16A

Columbia, MO, Columbia Rgnl, LOC BC RWY 20, Amdt 13A

Columbia, MO, Columbia Rgnl, RNAV (GPS) RWY 2, Amdt 2A

Columbia, MO, Columbia Rgnl, VOR Y RWY 20, Amdt 4A

Lee's Summit, MO, Lee's Summit Muni, RNAV (GPS) RWY 18, Amdt 3

Lee's Summit, MO, Lee's Summit Muni, RNAV (GPS) RWY 29, Amdt 3

Lee's Summit, MO, Lee's Summit Muni, RNAV (GPS) RWY 36, Amdt 3

Lee's Summit, MO, Lee's Summit Muni, Takeoff Minimums and Obstacle DP, Amdt 1

Lee's Summit, MO, Lee's Summit Muni, VOR-A, Amdt 1

Circle, MT, Circle Town County, RNAV (GPS) RWY 30, Orig-B

Kenansville, NC, Duplin Co, LOC/NDB RWY 23, Amdt 1A, CANCELED

Beatrice, NE, Beatrice Muni, VOR RWY 18, Amdt 3

Beatrice, NE, Beatrice Muni, VOR RWY 36, Amdt 10

Hebron, NE, Hebron Muni, NDB RWY 12, Amdt 4C, CANCELED

Artesia, NM, Artesia Muni, NDB RWY 31, Amdt 5A

Dunkirk, NY, Chautauqua County/Dunkirk, Takeoff Minimums and Obstacle DP, Amdt 3

Cleveland, OH, Burke Lakefront, Takeoff Minimums and Obstacle DP, Amdt 7

Toledo, OH, Toledo Express, RNAV (GPS) RWY 7, Amdt 1B

Toledo, OH, Toledo Express, RNAV (GPS) RWY 25, Amdt 2B

Wooster, OH, Wayne County, VOR RWY 10, Amdt 1B

Wooster, OH, Wayne County, VOR RWY 28, Orig-E

Ardmore, OK, Ardmore Downtown Executive, RNAV (GPS) RWY 17, Orig-C

Ardmore, OK, Ardmore Downtown Executive, RNAV (GPS) RWY 35, Orig-C

Claremore, OK, Claremore Rgnl, RNAV (GPS) RWY 18, Amdt 1

Claremore, OK, Claremore Rgnl, RNAV (GPS) RWY 36, Amdt 3

Claremore, OK, Claremore Rgnl, Takeoff Minimums and Obstacle DP, Amdt 1

Duncan, OK, Halliburton Field, LOC RWY 35, Amdt 5, CANCELED

Duncan, OK, Halliburton Field, RNAV (GPS) RWY 17, Amdt 2

Duncan, OK, Halliburton Field, RNAV (GPS) RWY 35, Amdt 2

Duncan, OK, Halliburton Field, VOR RWY 35, Amdt 12, CANCELED

Madras, OR, Madras Municipal, RNAV (GPS) RWY 16, Amdt 1C

Newport, OR, Newport Muni, RNAV (GPS) RWY 34, Amdt 1B

Portland, OR, Portland-Hillsboro, Takeoff Minimums and Obstacle DP, Amdt 7A

Portland, OR, Portland Intl, ILS OR LOC RWY 28L, Amdt 5

Portland, OR, Portland Intl, ILS OR LOC RWY 28R, Amdt 17

Portland, OR, Portland Intl, RNAV (GPS) X RWY 28L, Amdt 4

Portland, OR, Portland Intl, RNAV (GPS) X RWY 28R, Amdt 4

Redmond, OR, Roberts Field, RNAV (GPS) Y RWY 5, Amdt 2A

Redmond, OR, Roberts Field, RNAV (GPS) Y RWY 23, Amdt 1A

Redmond, OR, Roberts Field, RNAV (GPS) Y RWY 29, Amdt 2A

Redmond, OR, Roberts Field, RNAV (GPS) Z RWY 29, Amdt 1A

Sunriver, OR, Sunriver, VOR RWY 18, Amdt 1D

Bloomsburg, PA, Bloomsburg Muni, RNAV (GPS)-B, Amdt 1B

Bloomsburg, PA, Bloomsburg Muni, VOR-A, Amdt 1B

Mifflintown, PA, Mifflintown, RNAV (GPS) RWY 26, Orig-A

Pittsburgh, PA, Allegheny County, Takeoff Minimums and Obstacle DP, Amdt 9

Selinsgrove, PA, Penn Valley, Takeoff Minimums and Obstacle DP, Amdt 3A

Selinsgrove, PA, Penn Valley, VOR-A, Amdt 7C

Shamokin, PA, Northumberland County, RNAV (GPS) RWY 8, Orig-D

Shamokin, PA, Northumberland County, RNAV (GPS) RWY 26, Orig-C

Shamokin, PA, Northumberland County, Takeoff Minimums and Obstacle DP, Amdt 2A

Shamokin, PA, Northumberland County, VOR RWY 8, Amdt 3E

Kingstree, SC, Williamsburg Rgnl, NDB RWY 14, Amdt 4B, CANCELED

Summerville, SC, Summerville, RNAV (GPS) RWY 6, Amdt 1

Summerville, SC, Summerville, Takeoff Minimums and Obstacle DP, Amdt 2

Alpine, TX, Alpine-Casparis Muni, RNAV (GPS) RWY 19, Amdt 1

Alpine, TX, Alpine-Casparis Muni, RNAV (GPS) RWY 23, Orig

Baytown, TX, R W J Airpark, RNAV (GPS) RWY 32, Orig-A, CANCELED

Cisco, TX, Gregory M Simmons Memorial, RNAV (RNP) Z RWY 18, Orig

Cisco, TX, Gregory M Simmons Memorial, Takeoff Minimums and Obstacle DP, Orig

Laredo, TX, Laredo Intl, Takeoff Minimums and Obstacle DP, Amdt 4A

Fillmore, UT, Fillmore Muni, RNAV (GPS) RWY 4, Amdt 1A

Huntington, UT, Huntington Muni, RNAV (GPS)-C, Orig-A

Huntington, UT, Huntington Muni, VOR-B, Amdt 1A

Nephi, UT, Nephi Muni, RNAV (GPS) RWY 35, Orig-B

Ogden, UT, Ogden-Hinckley, EMONT TWO, Graphic DP

Ogden, UT, Ogden-Hinckley, Takeoff Minimums and Obstacle DP, Amdt 2A

Price, UT, Carbon County Rgnl/Buck Davis Field, ILS OR LOC RWY 1, Amdt 1B

Price, UT, Carbon County Rgnl/Buck Davis Field, RNAV (GPS) RWY 1, Amdt 2B

Price, UT, Carbon County Rgnl/Buck Davis Field, VOR RWY 1, Amdt 1B

Wenatchee, WA, Pangborn Memorial, RNAV (RNP) RWY 12, Amdt 1A

Wenatchee, WA, Pangborn Memorial, RNAV (RNP) Z RWY 30, Amdt 1A

Wenatchee, WA, Pangborn Memorial, VOR-A, Amdt 9C

[FR Doc. 2017-25837 Filed 12-1-17; 8:45 am]

BILLING CODE 4910-13-P